DEPARTMENT OF HOUSING AND URBAN DEVELOPMENT

[Docket No. FR-4581-C-02]

FY 2000 NOFA for the Assisted Living Conversion Program (ALCP) for Section 202 Projects; Technical Correction

AGENCY: Office of the Assistant Secretary for Housing-Federal Housing Commissioner, HUD.

ACTION: Notice of funding availability (NOFA); technical correction.

SUMMARY: This document makes certain technical corrections to the FY 2000 NOFA for the Assisted Living Conversion Program (ALP) for Section 202 Projects, published on March 17, 2000.

DATES: The application due date for this NOFA, as published on March 17, 2000, is not changed by this notice. The application due date is July 17, 2000.

FOR FURTHER INFORMATION, CONTACT: You should contact the lead Multifamily Hub where you will be mailing your ALCP Application. (Please refer to Hub telephone numbers in Appendix B to the March 17, 2000, ALCP NOFA, published at 65 FR 14705.)

You also may contact Aretha Williams, Housing Project Manager, Office of Housing Assistance and Grant Administration, Room 6138, at (202) 708-2866 x2480, for questions regarding the physical conversion of the ALF. Ms. Williams can be reached, also by e:mail, at “aretha_m._williams@hud.gov”. For questions about management of the ALF and coordination with agencies of the Department of Health and Human Services and other third parties, you may contact Carissa Janis, Housing Project Manager, Office of Housing Assistance and Grant Administration, Room 6168 at (202) 708-3730 x2487. Ms. Janis may be reached also by e:mail at “carissa_l._janis@hud.gov”. Both Ms. Williams and Ms. Janis are located at the Department of Housing and Urban Development, 451 Seventh Street, SW, Washington, DC 20410.

Please note that the above-listed telephone numbers are not toll free numbers.

If you have a hearing or speech impairment, you may access either telephone number via TTY by calling the Federal Information Relay Service at 1-800-877-8339.

SUPPLEMENTARY INFORMATION

I. Background

On March 17, 2000 (65 FR 14694), HUD published the NOFA for ALCP for Section 202 Projects which announced the availability of $50,000,000 for the physical conversion of Section 202 projects or portions of Section 202 projects to Assisted Living Facilities. The purpose of this document is to correct certain technical errors that appeared in the published NOFA.

Technical Errors To Be Corrected

The page numbers referred to in this notice refer to Federal Register page numbers.

On page 14694, second column, under the fourth full paragraph, which addresses Application Kits, HUD failed to include the toll free TTY number and to indicate that application kits for the ALCP NOFA and the Service Coordinators NOFA are available on the Internet. The TTY number and a statement that both application kits are available on the Internet are included by this document.

On page 14696, second column, under the sixth full paragraph, which identifies contact persons for technical assistance, HUD is correcting the name of the office of the contact persons and replacing the name of one of the contact persons.

On page 14696, second column, the paragraph designated “(14)” is revised by adding a new sentence to the end of the first full paragraph of paragraph (14) to clarify that a Section 202/PRAC project is not eligible to request funding under the NOFA for Service Coordinators for Multifamily Housing, published also on March 17, 2000 (65 FR 14708), because the Section 202/PRAC project may pay for the service coordinator out of PRAC funds.

On page 14699, third column, the first full paragraph under “Rating Factor 1,” contains an incorrect cross reference to other sections of the NOFA and this reference is corrected by this document.

On page 14699, third column, the last paragraph in that column which continues on page 14700, contains an incorrect cross reference to other sections of the NOFA and this reference is corrected by this document.

On page 14700, first column, the first full paragraph under Rating Factor 3, contains an incorrect cross-reference to other sections of the NOFA, and the reference is corrected by this document.

On page 14700, second column, the second full paragraph under Rating Factor 4 contains an incorrect cross-reference to other sections of the NOFA and the reference is corrected by this document.

On page 14700, third column at the top, the paragraph designated “(3)” under Rating Factor 4 contains an incorrect point assignment where the answer is “yes” and this is corrected by this document.

On page 14700, third column, the first paragraph under Rating Factor 5 contains an incorrect cross-reference to other sections of the NOFA, and the reference is corrected by this document.

On page 14700, third column, in the paragraph designated “(1)” under Rating Factor 5, the parenthetical phrase (including minority residents) is added to relate application submission requirements to the appropriate Rating Factor.

On page 14700, third column, in the paragraph designated “(3)” under Rating Factor 5, the phrase “the community at large and with the minority and elderly communities in particular” is added to relate application submission requirements to the appropriate Rating Factor.

On page 14702, first column, the paragraph designated “paragraph (8)” contains an incorrect cross-reference to another section of the NOFA and the reference is corrected.

On page 14702, second column, a new sentence is added at the end of paragraph (b) to require the applicant to also indicate how the applicant intends to pay for the service coordinator role.

On page 14704, third column, paragraph (b) of Appendix A is corrected to add “Birmingham” to the list of HUD Field Offices which will submit applications to HUD's Greensboro Hub.

Accordingly, in the FY 2000 NOFA for Assisted Living Conversion Program (ALCP) for Section 202 Projects, notice document 00-6572, beginning at 65 FR 14694, in the issue of Friday, March 17, 2000, the following corrections are made:

1. On page 14694, second column, the paragraph titled “For Application Kits” is corrected to read as follows:

For Application Kits. You may obtain an ALCP application kit and supplemental information by calling either the Multifamily Housing Clearinghouse at (voice) 1-800-MULTI-70 (1-800-685-8470). Persons with hearing or speech impairments may call the Clearinghouse's TTY number—1-800-483-2209. There is a separate application kit for service coordination information (which is necessary for those needing to enhance or add service coordination per Section III(A)(14) of this NOFA). Please make sure to provide your name, address (including zip code), and telephone number (including area code). The application kit is also available on the Internet through the HUD web site at http://www.hud.gov.

2. On page 14694, second column, the paragraphs titled “For Further Information and Technical Assistance” are corrected to read as follows:

For Further Information and Technical Assistance. You should contact the lead Multifamily Hub where you will be mailing the ALCP Application. (Please refer to Hub telephone numbers in Appendix B).

You also may contact Aretha Williams, Housing Project Manager, Office of Housing Assistance and Grant Administration, Room 6138, at (202) 708-2866 x2480, for questions regarding the physical conversion of the ALF. Ms. Williams can be reached, also by e:mail, at “aretha_m._williams@hud.gov”. For questions about management of the ALF and coordination with agencies of the Department of Health and Human Services and other third parties, you may contact Carissa Janis, Housing Project Manager, Office of Housing Assistance and Grant Administration, Room 6168 at (202) 708-3730 x2487. Ms. Janis may be reached also by e:mail at “carissa_l._janis@hud.gov”. Both Ms. Williams and Ms. Janis are located at the Department of Housing and Urban Development, 451 Seventh Street, SW, Washington, DC 20410. (The telephone numbers listed in this paragraph are not toll free.)

3. On page 14696, second column, “paragraph (14)” is corrected to read as follows:

(14) The ALCP requires service coordination responsible for linking the ALF to services in the community which are available to low income persons. All section 202 projects funded under this NOFA must have sufficient service coordination in place, or request additional funds if appropriate, to ensure that services meeting licensing requirements are available to ALF residents on an ongoing basis. Service coordination must be described in the application (see Section VI(B)(8)(b) through (c) of this NOFA). If you need to enhance an existing service coordination program or add one where it does not exist, you must apply for funding through the Service Coordinator NOFA, published elsewhere in this edition of the Federal Register, and attach a copy of the Form HUD 424M so indicating the request to the ALCP application. Alternatively, you may show evidence that funding for the enhanced service coordination is provided by other sources and indicate such funding on the HUD Form 424M which is exhibit 10(c) of your ALF application. If you are funded under this NOFA and requested new or enhanced service coordination in this application, you will be funded first under the service coordinator NOFA.

Note: If you are a Section 202/PRAC project, you are NOT eligible to request funding under the service coordinator NOFA because you can pay for the service coordinator out of PRAC funds.

4. On page 14699, third column, the first full paragraph under “Rating Factor 1” is corrected to read as follows:

This factor addresses your capacity to carry out the conversion in a timely, cost-conscious and effective manner. It also reviews your experience with the supportive services which the ALF intends to provide to elderly residents, especially in such areas as meals, 24-hour staffing and on-site health care. Submit information responding to this factor in accordance with Application Submission Requirements in Section VI(B)(5)(a), (8)(h), and (2)(d) of this NOFA.

5. On page 14699, third column, the last paragraph in that column which continues on page 14700 is corrected to read as follows:

The factor also addresses your inability to fund the repairs or conversion activities from existing financial resources. In making this determination, HUD will consider project financial information. The Department will also review more favorably those applications which establish a connection between the proposed ALF and the community's Analysis of Impediments to Fair Housing Choice (AI) or other planning document that analyzes fair housing issues and is prepared by a local planning or similar organization. Submit information responding to this factor in accordance with Application Submission Requirements in Section VI(B)(4)(a) through (d), (2)(c) and (9)(a) through (c) of the NOFA. In evaluating this factor, HUD will consider: * * *

6. On page 14700, first column, the first full paragraph under Rating Factor 3 is corrected to read as follows:

This factor addresses the quality and effectiveness of your proposal in addressing the proposed conversion, effectiveness of service coordination and management planning and the meals and supportive services which the ALF intends to provide. There must be a relationship between the proposed activities, the project's and the community's needs and purposes of the program funding for your application to receive points for this factor. Submit information responding to this factor in accordance with Application Submission Requirements in Section VI(B)(5)(b) through (e), and (h) and (7) and (B)(8))(a) through (e) and (g) and (h) of this NOFA.

7. On page 14700, second column, the second full paragraph under Rating Factor 4 is corrected to read as follows:

Submit information responding to this factor in accordance with Application Submission Requirements in Section VI(B)(5)(f),(g), and (B)(8)(f) of this NOFA.

8. On page 14700, third column at the top, the paragraph designated “paragraph (3)” under Rating Factor 4 is corrected to read as follows:

(3) (2 points) The extent of local organizational support which is firmly committed to providing funds for additional repair or retrofit necessary for the project NOT specifically directed to activities eligible under this NOFA (consider yes = 2 point, no = 0 points).

9. On page 14700, third column, the first paragraph under Rating Factor 5 is corrected to read as follows:

This factor addresses the extent to which you have evidenced general support for conversion by participating in your community's Consolidated Planning Process, involving the residents in the planning and are working toward addressing the need in a holistic and comprehensive manner through linkages with other activities in the community. Submit information responding to this factor in accordance with Application Submission Requirements in Section VI(B)(2)(a) through (d) of this NOFA.

10. On page 14700, third column, the paragraph designated “(1)” under Rating Factor 5, is corrected to read as follows:

(1) (3 points) The involvement of project residents (including minority residents) or their representatives, in the development of the ALCP application, and your intent to involve residents, in the development and operation of the project and in relocation planning (Minus one (-1) point if not addressed);

11. On page 14700, third column, the paragraph designated “(3)” under Rating Factor 5 is corrected to read as follows:

(3) (1 point) The extent to which you developed linkages with the community at large and the elderly and minority communities in particular and with other activities, programs or projects related to the proposed project to coordinate your activities so solutions are holistic and comprehensive.

12. On page 14702, first column, the paragraph designated “paragraph 8” is corrected to read as follows:

(8) A supportive services plan (SSP), a copy of which must be submitted to the appropriate state and/or local agency as instructed in Section IV(B) of this NOFA. For those applicants needing to contact state Medicaid offices, a list of them may be accessed on the Internet at “www.hcfa.gov/medicaid/scon1.htm”. The fifth character from the end is the numeral “1”, not the letter “l” that includes: * * *

13. On page 14702, second column, the paragraph designated “(b)” is corrected to read as follows:

(b) A description of how you will provide the supportive services to those who are frail and have disabilities (i.e., on or off-site or combination of on or off-site), including an explanation of how the service coordination role will facilitate the adequate provision of such services to ALF residents, and how the services will meet the identified needs of the residents. Also indicate how you intend to fund the service coordinator role.

14. On page 14704, third column, paragraph (b) of Appendix A is corrected to read as follows:

(b) Applicants required to submit applications to the Greensboro Hub are normally serviced by the Greensboro, Columbia, Atlanta, Caribbean, Knoxville, Louisville, Nashville, Jacksonville, Miami, Jackson, Birmingham, Ft. Worth, Albuquerque, Dallas, Houston, Little Rock, New Orleans, San Antonio, and Shreveport Field Offices.

Dated: June 2, 2000.
William C. Apgar,
Assistant Secretary for Housing-Federal Housing Commissioner.

[FR Doc. 00-14520 Filed 6-9-00; 8:45 am]

BILLING CODE 4210-27-P